DEPARTMENT OF ENERGY

Federal Energy Regulatory Commission

Combined Notice of Filings #1

Take notice that the Commission received the following electric rate filings:

Docket Numbers: ER17-718-001.

Applicants: PJM Interconnection, L.L.C.

Description: Compliance filing: Compliance Filing per 10/3/2017 Order re: TMEPs in Docket No. ER17-718 et al to be effective 6/28/2017.

Filed Date: 11/2/17.

Accession Number: 20171102-5254.

Comments Due: 5 p.m. ET 11/24/17.

Docket Numbers: ER17-721-001.

Applicants: Midcontinent Independent System Operator, Inc.

Description: Compliance filing: 2017-11-02_Compliance filing re Targeted Market Efficiency Amendments to be effective 6/28/2017.

Filed Date: 11/2/17.

Accession Number: 20171102-5269.

Comments Due: 5 p.m. ET 11/24/17.

Docket Numbers: ER18-241-000.

Applicants: Luz Solar Partners Ltd., V.

Description: Baseline eTariff Filing: Luz Solar Partners Ltd., V Application for Market-Based Rates to be effective 1/1/2018.

Filed Date: 11/2/17.

Accession Number: 20171102-5255.

Comments Due: 5 p.m. ET 11/24/17.

Docket Numbers: ER18-242-000.

Applicants: Southern California Edison Company.

Description: Notice of Cancellation of the Amended and Restated Mutual Assistance Transmission Agreement (Rate Schedule No. 174) of Southern California Edison Company.

Filed Date: 11/2/17.

Accession Number: 20171102-5282.

Comments Due: 5 p.m. ET 11/24/17.

Docket Numbers: ER18-243-000.

Applicants: San Diego Gas & Electric Company.

Description: Notice of Cancellation of the Amended and Restated Mutual Assistance Transmission Agreement (Rate Schedule No. 62) of San Diego Gas & Electric Company.

Filed Date: 11/2/17.

Accession Number: 20171102-5284.

Comments Due: 5 p.m. ET 11/24/17.

Docket Numbers: ER18-244-000.

Applicants: PJM Interconnection, L.L.C.

Description: § 205(d) Rate Filing: Amendment to WMPA SA No. 3234, Queue No. W4-060 to be effective 9/17/2014.

Filed Date: 11/3/17.

Accession Number: 20171103-5097.

Comments Due: 5 p.m. ET 11/24/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 3, 2017.
Kimberly D. Bose,
Secretary.

[FR Doc. 2017-24453 Filed 11-9-17; 8:45 am]

BILLING CODE 6717-01-P